Proclamation 10963 of August 7, 2025

National Purple Heart Day, 2025

By the President of the United States of America

A Proclamation

On National Purple Heart Day, we pause in solemn tribute to every American Soldier, Sailor, Marine, Airman, Guardian, and Coast Guardsman who was wounded or killed defending our birthright of freedom. Today, we renew our resolve to never forget the wounded warriors and martyrs of liberty who have received this distinguished decoration—and we vow to forge a future worthy of their sacrifice.

On August 7, 1782, General George Washington established the Badge of Military Merit, fashioned with a heart-shaped purple cloth to honor acts of “unusual gallantry, extraordinary fidelity, and essential service.” Today, that award—known as the Purple Heart—recognizes any member of our Armed Forces wounded or killed in action against an enemy.

The Purple Heart is an award neither pursued nor won. Instead, it is bestowed as a symbol of the sacrifices manifested in bloodshed, broken bodies, and perished souls. The modern medallion—a gold heart bearing a likeness of George Washington and adorned with a purple sash—stands as an enduring reminder that our cherished freedom is preserved, often at tremendous cost, by the steadfast courage of those who wear our Nation's uniform.

To honor the heroism and safeguard the legacy of every man and woman who has earned this distinguished medal, my Administration remains steadfastly committed to pursuing a foreign policy of peace through strength, ending the days of endless foreign wars, and ensuring that the United States military remains the most powerful, most lethal, and most respected in the world. Under my leadership, fewer conflicts will erupt on the field of battle, but the significance of this decoration will never be diminished.

On this observance, the First Lady joins me in honoring all Purple Heart recipients as well as the resilient and faithful families who support the wounded in recovery and restoration and those who grieve the fallen. We are eternally indebted for their devotion to duty, and sacrifice on behalf of our great Nation.

NOW, THEREFORE, I, DONALD J. TRUMP, President of the United States of America, by virtue of the authority vested in me by the Constitution and the laws of the United States, do hereby proclaim August 7, 2025 as National Purple Heart Day.

IN WITNESS WHEREOF, I have hereunto set my hand this seventh day of August, in the year of our Lord two thousand twenty-five, and of the Independence of the United States of America the two hundred and fiftieth.

[FR Doc. 2025-15339

Filed 8-11-25; 11:15 am]

Billing code 3395-F4-P